INTERNATIONAL TRADE COMMISSION

[Investigation Nos. 731-TA-770-773 and 775 (Third Review)]

Stainless Steel Wire Rod From Italy, Japan, Korea, Spain, and Taiwan; Revised Schedule for the Subject Reviews

AGENCY: United States International Trade Commission.

ACTION: Notice.

DATES: Effective Date: 5/8/2016.

FOR FURTHER INFORMATION CONTACT: Fred Ruggles (202-205-3187), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for these reviews may be viewed on the Commission's electronic docket (EDIS) at http://edis.usitc.gov.

SUPPLEMENTARY INFORMATION: Effective January 6, 2016, the Commission established a schedule for the conduct of the final phase of the subject reviews (81 FR 1642, January 13, 2016). The Commission is revising its schedule.

The Commission's new schedule for the reviews are is as follows: The prehearing staff report will be placed in the nonpublic record on May 2, 2016; the deadline for filing prehearing briefs is May 10, 2016; requests to appear at the hearing must be filed with the Secretary to the Commission not later than May 11, 2016; the prehearing conference will be held at the U.S. International Trade Commission Building on May 16, 2016, if deemed necessary; the hearing will be held at the U.S. International Trade Commission Building at 9:30 a.m. on May 18, 2016; the deadline for filing posthearing briefs is May 27, 2016; the Commission will make its final release of information on June 27, 2016; and final party comments are due on June 29, 2016.

For further information concerning these reviews see the Commission's notice cited above and the Commission's Rules of Practice and Procedure, part 201, subparts A through E (19 CFR part 201), and part 207, subparts A, D, E, and F (19 CFR part 207).

Authority: These reviews are being conducted under authority of title VII of the Tariff Act of 1930; this notice is published pursuant to section 207.62 of the Commission's rules.

By order of the Commission.
Issued: February 9, 2016.
William R. Bishop,
Supervisory Hearings and Information Officer.

[FR Doc. 2016-02897 Filed 2-11-16; 8:45 am]

BILLING CODE 7020-02-P